DEPARTMENT OF THE TREASURY

Office of Foreign Assets Control

Sanctions Actions Pursuant to the Foreign Narcotics Kingpin Designation Act or Executive Order 12978

AGENCY: Office of Foreign Assets Control, Department of the Treasury.

ACTION: Notice.

SUMMARY: The U.S. Department of the Treasury's Office of Foreign Assets Control (OFAC) is publishing the names of persons whose property and interests in property have been unblocked pursuant to the Foreign Narcotics Kingpin Designation Act (Kingpin Act), Executive Order 12978 of October 21, 1995, “Blocking Assets and Prohibiting Transactions With Significant Narcotics Traffickers”. Additionally, OFAC is publishing an update to the identifying information of a person currently included in the list of Specially Designated Nationals and Blocked Persons (SDN List).

DATES: OFAC's actions described in this notice were effective on May 9, 2017.

FOR FURTHER INFORMATION CONTACT: OFAC: Associate Director for Global Targeting, tel: 202-622-2420; Assistant Director for Licensing, tel.: 202-622-2480, Assistant Director for Regulatory Affairs, tel.: 202-622-4855, Assistant Director for Sanctions Compliance & Evaluation, tel.: 202-622-2490; or the Department of the Treasury's Office of the General Counsel: Office of the Chief Counsel (Foreign Assets Control), tel.: 202-622-2410.

SUPPLEMENTARY INFORMATION:

Electronic Availability

The list of Specially Designated Nationals and Blocked Persons (SDN List) and additional information concerning OFAC sanctions programs are available on OFAC's Web site at http://www.treasury.gov/ofac.

Notice of OFAC Actions

On May 9, 2017, OFAC removed from the SDN List the persons listed below, whose property and interests in property were blocked pursuant to section 805(b) of the Kingpin Act or Executive Order 12978.

Individuals

1. BASTO DELGADO, Irma Mery, c/o C.I. OKCOFFEE COLOMBIA S.A., Bogota, Colombia; c/o C.I. OKCOFFEE INTERNATIONAL S.A., Bogota, Colombia; c/o CUBICAFE S.A., Bogota, Colombia; c/o C.I. DISTRIBUIDORA DE SERVICIOS COMBUSTIBLES Y MINERIA S.A., Bogota, Colombia; c/o FUNDACION PARA EL BIENESTAR Y EL PORVENIR, Medellin, Colombia; c/o HOTELES Y BIENES S.A., Bogota, Colombia; c/o UNION DE CONSTRUCTORES CONUSA S.A., Bogota, Colombia; c/o R D I S.A., Bogota, Colombia; DOB 05 Apr 1967; Cedula No. 20904590 (Colombia) (individual) [SDNTK].

2. CIFUENTES VILLA, Dolly de Jesus, c/o C.I. GLOBAL INVESTMENTS S.A., Medellin, Colombia; c/o CIFUENTES URIBE Y COMPANIA S.C.S., Medellin, Colombia; c/o ECOVIVERO EL MATORRAL E.U., Medellin, Colombia; c/o ROBLE DE MINAS S.A., Medellin, Colombia; Calle 36AA Sur No. 26A-35, Medellin, Colombia; DOB 14 Jun 1964; Cedula No. 43020313 (Colombia) (individual) [SDNTK].

3. EL BEZRI, Ahmad (a.k.a. EL BIZRI, Ahmad); DOB 09 Feb 1989; POB Saida, Lebanon; citizen Lebanon; Passport RL2452947 (Lebanon) (individual) [SDNTK] (Linked To: ABOU MERHI COTONOU; Linked To: ABOU MERHI NIGERIA).

4. GONZALEZ JARAMILLO, Juan Fernando, c/o BIO FORESTAL S.A., Medellin, Colombia; c/o ECOVIVERO EL MATORRAL E.U., Medellin, Colombia; Calle 36AA Sur No. 26A-35, Medellin, Colombia; Carrera 48 No. 15 Sur-45, Medellin, Colombia; DOB 05 Nov 1966; POB Medellin, Colombia; Cedula No. 15348215 (Colombia) (individual) [SDNTK].

5. MERHI, Atef Merhi Abou (a.k.a. ABOU-MERHI, Atef Merhi; a.k.a. MERHI, Atef Abou; a.k.a. MERHI, Atif Merhi Abou); DOB 06 Aug 1989; POB Saida, Lebanon; citizen Germany; Passport C1TRT3WNJ (Germany) (individual) [SDNTK] (Linked To: ABOU-MERHI LINES SAL; Linked To: ABOU MERHI CHARITY INSTITUTION; Linked To: ORIENT QUEEN HOMES).

6. MERHI, Hana Merhi Abou (a.k.a. MERHI, Hana Abou); DOB 31 Mar 1987; POB Germany; citizen Germany; Passport 332501999 (Germany) (individual) [SDNTK] (Linked To: ABOU-MERHI CRUISES SAL; Linked To: ABOU-MERHI LINES SAL; Linked To: ABOU MERHI CHARITY INSTITUTION; Linked To: ORIENT QUEEN HOMES).

7. MERHI, Merhi Ali Abou (a.k.a. ABOU MERHI, Merhi; a.k.a. MERHI, Merhi Abou); DOB 05 Jul 1964; POB Hilalie, Lebanon; citizen Lebanon; Passport RL0575682 (Lebanon) (individual) [SDNTK] (Linked To: ABOU MERHI GROUP; Linked To: ABOU-MERHI LINES SAL; Linked To: ABOU-MERHI CRUISES SAL; Linked To: QUEEN STATIONS; Linked To: ORIENT QUEEN HOMES; Linked To: ABOU MERHI COTONOU; Linked To: ABOU MERHI NIGERIA; Linked To: ABOU MERHI HAMBURG; Linked To: LEBANON CENTER; Linked To: ABOU MERHI CHARITY INSTITUTION).

8. NASR, Wajdi Youssef; DOB 25 Sep 1974; POB Lebanon; citizen Lebanon; Passport 2243913 (Lebanon) (individual) [SDNTK] (Linked To: ABOU MERHI HAMBURG).

9. NASREDDINE, Houeda Ahmad (a.k.a. ABOU MERHI, Houeida; a.k.a. ABOU MERHI, Huweid; a.k.a. ABOU MERHI, Huweida; a.k.a. NASREDDINE, Houeida Ahmad); DOB 14 Aug 1965; POB Kfarhatta, Lebanon; citizen Lebanon; Passport RL0022792 (Lebanon) (individual) [SDNTK] (Linked To: ABOU-MERHI CRUISES SAL; Linked To: ABOU-MERHI LINES SAL; Linked To: ABOU MERHI CHARITY INSTITUTION; Linked To: ORIENT QUEEN HOMES).

10. STJEPANOVIC, Savo; DOB 11 Apr 1976; POB Ljubljana, Slovenia; nationality Slovenia; Passport P00787190 (Slovenia); Registration ID 1104976500095 (Slovenia) (individual) [SDNTK] (Linked To: SIS D.O.O.; Linked To: NORTHSTAR TRADING CORPORATION).

11. URIBE CIFUENTES, Ana Maria, Calle 7 Sur No. 23-91 Apto. 804, Medellin, Colombia; c/o CIFUENTES URIBE Y CIA. S.C.S., Medellin, Colombia; c/o ECOVIVERO EL MATORRAL E.U., Medellin, Colombia; DOB 01 Feb 1980; POB Medellin, Colombia; Cedula No. 43162647 (Colombia) (individual) [SDNTK].

Entities

1. ABOU MERHI CHARITY INSTITUTION, Merhi Abou Merhi Street, Hilaliye, Saida, Lebanon; Abou Merhi Street, Hilaliyah Area, Saida 175016, Lebanon [SDNTK] (Linked To: MERHI, Merhi Ali Abou; Linked To: ABOU MERHI GROUP).

2. ABOU MERHI COTONOU, Commune De Semepkodji Quartier Djeffa 01B7885, Cotonou, Benin [SDNTK] (Linked To: MERHI, Merhi Ali Abou; Linked To: ABOU MERHI GROUP).

3. ABOU MERHI GROUP, Weygand Street, Atrium Building, Central District, Beirut, Lebanon [SDNTK] (Linked To: MERHI, Merhi Ali Abou).

4. ABOU MERHI HAMBURG (a.k.a. ABOU MERHI LINIENAGENTUR GMBH), Borstelmannsweg 145 D, Hamburg 20537, Germany; Hermann-Blohm-Strasse 3, Hamburg 20457, Germany [SDNTK] (Linked To: MERHI, Merhi Ali Abou; Linked To: ABOU MERHI GROUP).

5. ABOU MERHI NIGERIA (a.k.a. ABOU MERHI NIGERIA LIMITED), Grimaldi Port Complex Tin Can Island Port, Lagos, Nigeria [SDNTK] (Linked To: MERHI, Merhi Ali Abou; Linked To: ABOU MERHI GROUP).

6. ABOU-MERHI CRUISES SAL, The Atrium Building, Property Number 1455/26, Weygand Street, Beirut Central District Area, Nejmeh Sector, Beirut, Lebanon [SDNTK] (Linked To: MERHI, Merhi Ali Abou; Linked To: ABOU MERHI GROUP).

7. ABOU-MERHI LINES SAL (a.k.a. ABOU MERHI LINES; a.k.a. ABOU MERHI LINES SAL; a.k.a. ABOU MERHI LINES SAL OFF-SHORE), Atrium Building, Mosquee Al-Omari Street, Nejmeh Area, Marfaa Sector, Beirut, Lebanon; Atrium Building, Weygand Street, Central District, Nejmeh Sector, Beirut, Lebanon [SDNTK] (Linked To: MERHI, Merhi Ali Abou; Linked To: ABOU MERHI GROUP).

8. CIFUENTES URIBE Y CIA. S.C.S., Calle 16C No. 42-70, Medellin, Colombia; NIT # 811036756-7 (Colombia) [SDNTK].

9. ECOVIVERO EL MATORRAL E.U., Calle 36AA Sur No. 26A-35, Envigado, Antioquia, Colombia; Carrera 48 No. 15 Sur-45, Medellin, Colombia; NIT # 811027555-5 (Colombia) [SDNTK].

10. LEBANON CENTER, 176 Wasfi Tall Street, The Gardens, Amman, Jordan [SDNTK] (Linked To: MERHI, Merhi Ali Abou; Linked To: ABOU MERHI GROUP).

11. MATAMBRE DE LO MEJOR, Carrera 75 No. 24C-25, Bogota, Colombia; Matricula Mercantil No 1664511 (Colombia) [SDNTK].

12. ORIENT QUEEN HOMES (a.k.a. ABOU MERHI HOSPITALITY SAL), John Kennedy Street 56526, Beirut, Lebanon [SDNTK] (Linked To: MERHI, Merhi Ali Abou; Linked To: ABOU MERHI GROUP).

13. QUEEN STATIONS, Merhi Abou-Merhi Street, Saida, Lebanon [SDNTK] (Linked To: ABOU MERHI GROUP).

14. SIS D.O.O., 19 Spruha, Trzin 1236, Slovenia; Registration ID 5919070 (Slovenia); Tax ID No. SI91729181 (Slovenia) [SDNTK].

Vessels

1. CITY OF ANTWERP (3FRY8) Panama flag; Vessel Registration Identification IMO 8709133; MMSI 356459000 (vessel) [SDNTK] (Linked To: MERHI, Merhi Ali Abou; Linked To: ABOU-MERHI LINES SAL).

2. CITY OF LUTECE (9HRJ6) Malta flag; Vessel Registration Identification IMO 8017970; MMSI 248781000 (vessel) [SDNTK] (Linked To: MERHI, Merhi Ali Abou; Linked To: ABOU-MERHI LINES SAL).

3. CITY OF MISURATA (3EMY5) Panama flag; Vessel Registration Identification IMO 7920857; MMSI 354134000 (vessel) [SDNTK] (Linked To: MERHI, Merhi Ali Abou; Linked To: ABOU-MERHI LINES SAL).

4. ORIENT QUEEN II (3FDJ9) Panama flag; Vessel Registration Identification IMO 8701193; MMSI 373703000 (vessel) [SDNTK] (Linked To: MERHI, Merhi Ali Abou; Linked To: ABOU-MERHI LINES SAL).

Additionally, on May 9, 2017, OFAC updated the SDN List for the person listed below, whose property and interests in property continue to be blocked pursuant to the Kingpin Act.

1. AYALA BARRERA, Rubi Yiceth, c/o HERJEZ LTDA., Bogota, Colombia; c/o MATAMBRE DE LO MEJOR, Bogota, Colombia; DOB 13 Feb 1982; Cedula No. 52784570 (Colombia) (individual) [SDNTK].

-to-

AYALA BARRERA, Rubi Yiceth; DOB 13 Feb 1982; Cedula No. 52784570 (Colombia) (individual) [SDNTK] (Linked To: HERJEZ LTDA.).

Dated: May 9, 2017.
Gregory T. Gatjanis,
Associate Director, Office of Global Targeting, Office of Foreign Assets Control.

[FR Doc. 2017-09793 Filed 5-16-17; 8:45 am]

BILLING CODE 4810-AL-P